DEPARTMENT OF THE INTERIOR

National Park Service

National Register of Historic Places; Notification of Pending Nominations and Related Actions

Nominations for the following properties being considered for listing or related actions in the National Register were received by the National Park Service before November 19, 2005.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by December 22, 2005.

John W. Roberts,
Acting Chief, National Register/National Historic Landmarks Program.

ARIZONA

Pima County

Winterhaven Historic District, Bounded by Prince, Country Club, Ft. Lowell, and Tucson Blvd., Tucson, 05001466

MAINE

Androscoggin County

Chapel Hill Historic District, Roughly bounded by Industrial Blvd., unnamed alley E of South St., and E. Oldtown Rd., Cumberland, 05001477

Hancock County

Haystack Mountain School of Crafts, 89 Haystack School Dr., Deer Isle, 05001469

Kennebec County

Colcord Farmstead, 184 Unity Rd., Benton, 05001468

Underwood, Joseph H., House, 1957 Main St., Fayette, 05001470

Knox County

Gaunt Neck Site Complex, Address Restricted, Cushing, 05001467

MARYLAND

Allegany County

Decatur Heights Historic District, Roughly along Baltimore Ave., Decatur St., Davidson St., Frederick St. and Linden St., Cumberland, 05001478

Greene Street Historic District, Greene St. bet. Spruce Alley and Riverside, Cumberland, 05001482

Frederick County

Kitterman—Buckey Farm, 12529 Molasses Rd., Johnsville, 05001479

Rich Mountain, 6434 S. Clifton Rd., Frederick, 05001480

Talbot County

Oxford Historic District, Roughly bounded by Tred Avon R, Town Creek and Caroline Ave., Oxford, 05001481

MINNESOTA

Morrison County

Our Lady of the Angels Academy, 18801 Riverwood Dr., Little Falls, 05001474

MISSOURI

Cole County

Capitol Avenue Historic District, Roughly Capitol Ave., from Adams to Cherry Sts., Jefferson City, 05001473

Sullivan County

Henry Cemetery, E side of MO Z, approx 1 mi. S of Reger, Reger, 05001472

MONTANA

Lewis and Clark County

Donovan—Mayer House, 46 S. Howie St., Helena, 05001471

NEW JERSEY

Passaic County

Paasaic Elks Club, 29-31 Howe Ave., Passaic, 05001485

Sussex County

Backwards Tunnel, Cork Hill Rd., 310 ft. N of Passaic Ave. intersection, Ogdensburg, 05001483

Warren County

Van Nest—Hoff—Vannatta Farmstead, Cty Rd. 519, Harmony, 05001484

NEW YORK

Niagara County

DAY PECKINPAUGH, (canal motorship), NYS Barge Canal, Lockport, 05001486

NORTH CAROLINA

Durham County

Forest Hills Historic District, (Durham MRA) Roughly bounded by Kent St., Bivins St., Wells St., American Tobacco Trail, Forestwood Dr. and Beverly Dr., Durham, 05001476

NORTH DAKOTA

Grand Forks County

Downtown Grand Forks Historic District, Downtown Grand Forks, at the Red River of the North, Grand Forks, 05001475

PENNSYLVANIA

Lancaster County

Chickies Historic District, Roughly bounded by the Susquehanna R, Chickies Creek, Bank St. and Long Lane., Marietta Borough, 05001488

Lehigh County

Allentown National Bank, 13-17 N. Seventh St., Allentown, 05001490

Montgomery County

Seville Theatre, 822-826 W. Lancaster Ave., Lower Merion Township, 05001491

Northampton County

Arndt, Jacob, House and Barn, 910 Raubsville Rd., Williams Township, 05001489

UTAH

Salt Lake County

ZCMI General Warehouse, (Salt Lake City Business District MRA) 230 South 500 West, Salt Lake City, 05001487

WISCONSIN

Oneida County

Hagge, Hans J., Boathouse, 7220 Newell Rd., Hazelhurst, 05001493

Orth, Phillip, Boathouse, 9204 Country Club Rd., Minocqua, 05001492

Walter, Luther and Anna, Boathouse, 9574 Country Club Rd., Minocqua, 05001494

A request for removal has been made for the following resources:

OKLAHOMA

Atoka County

Atoka Community Building (WPA Public Bldgs., Recreational Facilities and Cemetery Improvements in Southeastern Oklahoma, 1935-1943 TR), First and Delaware Sts., Atoka, 88001373

Old Atoka County Courthouse, Pennsylvania and Court Sts., Atoka, 79001985

Standley, Capt. James S., House, 207 N. Ohio Ave., Atoka, 79001986

Zweigel Hardware Store Building, 405 and 407 Court St., Atoka, 80003255

[FR Doc. E5-6961 Filed 12-6-05; 8:45 am]

BILLING CODE 4312-51-P